DEPARTMENT OF ENERGY

Notice of Wetlands Involvement for the Transfer of Land at the Miamisburg Closure Project

AGENCY: Department of Energy (DOE), Ohio Field Office, Miamisburg Closure Project (MCP).

ACTION: Notice of wetlands involvement.

SUMMARY: This is to give notice of DOE's proposal to transfer ownership of approximately 57 acres of property of the MCP site, located approximately ten (10) miles southwest of Dayton, Ohio. The ownership of the subject property would be transferred to a non-Federal entity. A small portion (approximately 0.03 acre) of the property is classified as wetlands (i.e., those areas that are inundated by surface or groundwater with a frequency sufficient to support, and under normal circumstances does or would support, a prevalence of vegetative or aquatic life that requires saturated or seasonally saturated soil conditions for growth and reproduction). In accordance with 10 CFR 1022.5(d), DOE would identify those uses of a wetland resource that are restricted under Federal, state and local wetlands regulations, and would make the future property owner aware of those restricted uses.

DATES: Written comments on the proposed action must be received by the DOE at the following address on or before December 12, 2002.

ADDRESSES: For further information on the proposed action, including a site map and/or a copy of the Wetlands Assessment, contact: Ms. Sue Smiley, U.S. Department of Energy, Miamisburg Closure Project, P.O. Box 66, Miamisburg, OH 45343-0066, Phone: 937-865-3984.

FURTHER INFORMATION: For further information on general DOE wetland and floodplain environmental review requirements, contact: Ms. Carol Borgstrom, Director, Office of NEPA Policy and Compliance, EH-42, U.S. Department of Energy, 1000 Independence Ave., SW., Washington, DC 20585, Phone: 202-586-4600 or 1-800-472-2756.

SUPPLEMENTARY INFORMATION: The proposed action would support ultimate disposition of the MCP site. The MCP site has been determined to be excess to DOE's long-term needs. This decision is supported by the Nonnuclear Consolidation Environmental Assessment (DOE/EA-0792) and associated Finding of No Significant Impact (FONSI) dated September 14, 1993, and the Memorandum of Understanding (MOU) between the DOE Defense Programs, Environmental Management, and Nuclear Energy Programs dated August 1, 1995. In order to meet the programmatic need to disposition land determined to be excess to DOE's needs, ownership of the MCP site will be transferred to a non-Federal entity. The MCP property will be transferred in phases, since certain parcels of land are still in use by DOE or are not yet suitable for transfer. This notice addresses that portion of the “Phase I” parcel of land at the MCP site which is classified as wetlands. The subject wetland covers approximately 0.03 acre of the Phase I parcel, and it is an isolated wetland contained entirely within the boundaries of the Phase I parcel.

Issued in Miamisburg, Ohio, on November 19, 2002.
Jack R. Craig,
Acting Manager, Ohio, Field Office.

[FR Doc. 02-30094 Filed 11-26-02; 8:45 am]

BILLING CODE 6450-01-P